DEPARTMENT OF DEFENSE

Office of the Secretary

Proposed Collection; Comment Request

AGENCY: DoD, Office of the Assistant Secretary of Defense for Health Affairs, TRICARE Management Activity.

ACTION: Notice.

SUMMARY: In compliance with section 3506(c)(2)(A) of the Paperwork Reduction Act of 1995, the Department of Defense, Office of the Assistant Secretary of Defense for Health Affairs, TRICARE Management Activity announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by April 25, 2005.

ADDRESSES: Written comments should be submitted to: Office of the Assistant Secretary of Defense for Health Affairs, TRICARE Management Activity, Skyline Five, Suite 810, 5111 Leesburg Pike, Falls Church, VA 22041-3206.

FOR FURTHER INFORMATION CONTACT: To request more information on this proposed information collection or to obtain a copy of the proposed and associated collection instruments, please write to the above address or call Capt. Deborah McKay, Office of the Assistant Secretary of Defense for Health Affairs, TRICARE Management Activity at (703) 681-0064.

Title and OMB Number: DoD Patient Safety Survey; OMB Number 0720-TBD.

Needs and Uses: The 2001 National Defense Authorization Act contains specific sections addressing patient safety in military and veteran's health care systems. This legislation states that the Secretary or Defense shall establish a patient care error reporting and management system to study occurrences of errors in patient care and that one of the purposes of the system should be “To identify systemic factors that are associated with such occurrences” and “To provide for action to be taken to correct the identified systemic factors” (Sec. 754, items b2 and b3). In addition, the legislation states that the Secretary shall “Continue research and development investments to improve communication, coordination, and team work in the provision of health care” (Sec. 754, item d4).

In its ongoing response to this legislation, DoD plans to implement a Web-based patient safety culture survey to a census of all staff working in Army, Navy, and Air Force Military Health System (MHS) facilities in the U.S. and internationally, including Military Treatment Facility (MTF) hospitals as well as ambulatory and dental services. The survey obtains MHS staff opinions on patient safety issues such as teamwork, communications, medical error occurrence and response, error reporting, and overall perceptions of patient safety. The purpose of the survey is to assess the current status of patient safety in MHS facilities as well as to provide baseline input for assessment of patient safety improvement over time. Survey results will be prepared at the facility and Service levels and MHS overall.

Affected Public: Federal government; individuals or households.

Annual Burden Hours: 2,384.

Number of Respondents: 14,022.

Responses Per Respondent: 1.

Average Burden Per Response: 10 minutes.

Frequency: On occasion.

SUPPLEMENTARY INFORMATION:

Summary of Collection

The survey to be implemented is the pilot-tested Agency for Healthcare Research and Quality (AHRQ) Survey on Patient Safety Culture that was publicly released in November 2004. The development and testing of this survey was funded by the AHRQ and sponsored by the Department of Defense as an agency member of the Quality Interagency Coordination Task Force (QuIC), along with ten other Federal agencies. The pilot of the AHRQ Survey on Patient Safety Culture was previously approved by OMB (No.: 0935-0115, Exp. Date: 01/31/2004). This survey was chosen because it measures a number of different dimensions pertaining to patient safety culture, has demonstrated reliability and validity, and the specificity of the items will provide the DoD with actionable information about MHS patient safety.

Data Collection Method

The proposed project will administer the patient safety culture survey as a web-based instrument to a census of all staff, both clinical and non-clinical, working in all U.S. and international MHS facilities. Due to the large number of staff to be surveyed across the Services, data collection will be phased beginning with the Army, followed by the Navy and Air Force. Standard survey procedures will be implemented. Potential respondents will receive a prenotification letter followed by an email survey notification containing an embedded hyperlink to the internet location where the survey can be completed. Two additional e-mail survey notifications will be sent, a week apart, so that the data collection field period will be four weeks for each Service. The survey takes about 10 minutes to complete. All survey responses are voluntary and will be individually anonymous; only group-level results will be tabulated to protect individual anonymity.

There are a total of approximately 125,663 MHS staff in the United States and internationally (estimate on 12/16/04). Of these staff, approximately 18,696 staff (about 15%) are contractors, local nationals, volunteers or other MHS staff who are not direct employees of the DoD. Because OMB approval is required only for the non-DoD staff component, we provide estimates of the respondent burden for only these non-DoD MHS staff. Anticipating a 75% response rate, we anticipate responses from approximately 14,022 non-DoD MHS staff.

Dated: February 7, 2005.
Patricia L. Toppings,
Alternate OSD Federal Register Liaison Officer, Department of Defense.

[FR Doc. 05-3231 Filed 2-18-05; 8:45 am]

BILLING CODE 5001-06-M